DEPARTMENT OF COMMERCE

National Oceanic and Atmospheric Administration

RIN 0648-XD247

Marine Mammals; File No. 18691

AGENCY: National Marine Fisheries Service (NMFS), National Oceanic and Atmospheric Administration (NOAA), Commerce.

ACTION: Notice; issuance of permit.

SUMMARY: Notice is hereby given that a permit has been issued to Terrie M. Williams, Ph.D., Department of Ecology and Evolutionary Biology, Center for Ocean Health, Long Marine Laboratory, University of California Santa Cruz, 100 Shaffer Road, Santa Cruz, CA 95060, to conduct research on Weddell seals (Leptonycotes weddellii).

ADDRESSES: The permit and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Amy Sloan or Courtney Smith, (301) 427-8401.

SUPPLEMENTARY INFORMATION: On April 18, 2014, notice was published in the Federal Register (79 FR 21900) that a request for a permit to conduct research on Weddell seals had been submitted by the above-named applicant. The requested permit has been issued under the authority of the Marine Mammal Protection Act of 1972, as amended (16 U.S.C. 1361 et seq.), and the regulations governing the taking and importing of marine mammals (50 CFR part 216).

Permit No. 18691-00 authorizes Dr. Williams to study sub-ice navigation and orientation of Weddell seals in the area around Ross Island, McMurdo Sound, Antarctica. In each of three annual field seasons (3 months during July-December across a 5-year project), up to 12 seals may be captured, sedated, weighed, measured, flipper tagged, blood sampled, and have ultrasound and metabolic measurements taken. Eight of those 12 animals will also be instrumented and translocated within their home range. Up to 20 Weddell seals may be incidentally disturbed and up to two Weddell seals may die during research activities during each of the three annual field seasons. Samples may be imported to the U.S. from Antarctica. The permit is valid through August 31, 2019.

In compliance with the National Environmental Policy Act of 1969 (42 U.S.C. 4321 et seq.), a final determination has been made that the activity proposed is categorically excluded from the requirement to prepare an environmental assessment or environmental impact statement.

Dated: October 8, 2014.
Julia Harrison,
Chief, Permits and Conservation Division, Office of Protected Resources, National Marine Fisheries Service.

[FR Doc. 2014-24330 Filed 10-10-14; 8:45 am]

BILLING CODE 3510-22-P